DEPARTMENT OF TRANSPORTATION

Federal Aviation Administration

14 CFR Part 39

[Docket No. FAA-2004-19982; Directorate Identifier 2004-NM-142-AD]

RIN 2120-AA64

Airworthiness Directives; Airbus Model A330-223, -321, -322, and -323 Airplanes

AGENCY: Federal Aviation Administration (FAA), DOT.

ACTION: Notice of proposed rulemaking (NPRM).

SUMMARY: The FAA proposes to adopt a new airworthiness directive (AD) for all Airbus Model A330-223, -321, -322, and -323 airplanes. This proposed AD would require repetitive inspections of the firewall of the lower aft pylon fairing (LAPF), and corrective actions if necessary. This proposed AD is prompted by reports of cracking of the LAPF firewall. We are proposing this AD to detect and correct this cracking, which could reduce the effectiveness of the firewall and result in an uncontrolled engine fire.

DATES: We must receive comments on this proposed AD by February 3, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., Room PL-401, on the plaza level of the Nassif Building, Washington, DC. This docket number is FAA-2004-19982; the directorate identifier for this docket is 2004-NM-142-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2004-19982; Directorate Identifier 2004-NM-142-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on all Airbus Model A330-223, -321, -322, and -323 airplanes. The DGAC advises that cracks have been found in the firewall of the lower aft pylon fairing (LAPF) on several airplanes. This firewall is intended to contain an engine fire inside the engine core compartment. Cracking of the firewall, if not corrected, could reduce the effectiveness of the firewall and result in an uncontrolled engine fire.

Relevant Service Information

Airbus has issued Service Bulletin A330-54-3021, dated February 4, 2004. The service bulletin describes procedures for performing repetitive detailed visual inspections for cracking of the LAPF firewall on the left and right sides of the airplane. If any cracking is found, the service bulletin describes procedures for corrective actions. The corrective actions include, depending on the size of the crack, stop-drilling the crack and applying sealant, repairing the firewall, or replacing the firewall with a new firewall. The DGAC mandated the service information and issued French airworthiness directive F-2004-028 R1, dated September 15, 2004, to ensure the continued airworthiness of these airplanes in France. The service bulletin also specifies to report inspection findings to the airplane manufacturer.

The Airbus service bulletin refers to Pratt & Whitney Alert Service Bulletin PW4G-100-A54-5, dated February 13, 2003, as an additional source of service information for doing the inspection and corrective actions.

FAA's Determination and Requirements of the Proposed AD

These airplane models are manufactured in France and are type certificated for operation in the United States under the provisions of section 21.29 of the Federal Aviation Regulations (14 CFR 21.29) and the applicable bilateral airworthiness agreement. According to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously, except as discussed under “Differences Among Proposed AD, DGAC Action, and Airbus Service Bulletin.”

Clarification of Inspection Terminology

The Airbus service bulletin refers to a “detailed visual inspection” for cracking of the LAPF firewall on the left and right sides of the airplane. This proposed AD refers to this inspection as a “detailed inspection.” Note 1 of this proposed AD defines this type of inspection.

Differences Among Proposed AD, DGAC Action, and Airbus Service Bulletin

The French airworthiness directive and Airbus service bulletin allow continued flight with known cracks. We accept the provision allowing continued flight with an unrepaired crack that is less than or equal to 1.2 inches long. This provision is acceptable to us because Airbus has provided data showing that the LAPF firewall has no structural function for pylon integrity and retains fireproof capability with a crack that is less than or equal to 1.2 inches long. However, we do not accept the provision allowing continued flight with an unrepaired firewall that has a crack greater than 1.2 inches long. Airbus has not provided data showing that the fireproof capability is retained with a crack greater than 1.2 inches long. Thus, this proposed AD would require that, if any crack in the LAPF firewall is found that is greater than 1.2 inches long, the LAPF firewall must be repaired or replaced with a new firewall, as applicable, before further flight after the crack is found. This difference has been coordinated with the DGAC, and it expressed no concern with our action.

The French airworthiness directive specifies to report inspection results to the airplane manufacturer. However, this proposed AD would require reporting inspection results to the airplane manufacturer only when cracking is found.

Interim Action

We consider this proposed AD interim action. If final action is later identified, we may consider further rulemaking then.

Costs of Compliance

This proposed AD would affect about 20 airplanes of U.S. registry. The proposed actions would take about 2 work hours per airplane, at an average labor rate of $65 per work hour. Based on these figures, the estimated cost of the proposed AD for U.S. operators is $2,600, or $130 per airplane, per inspection cycle.

Authority for This Rulemaking

The FAA's authority to issue rules regarding aviation safety is found in title 49 of the United States Code. Subtitle I, section 106 describes the authority of the FAA Administrator. Subtitle VII, Aviation Programs, describes in more detail the scope of the agency's authority.

This rulemaking is promulgated under the authority described in subtitle VII, part A, subpart III, section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19982; Directorate Identifier 2004-NM-142-AD.

Comments Due Date

(a) The Federal Aviation Administration must receive comments on this AD action by February 3, 2005.

Affected ADs

(b) None.

Applicability

(c) This AD applies to all Airbus Model A330-223, -321, -322, and -323 airplanes; certificated in any category.

Unsafe Condition

(d) This AD was prompted by reports of cracking of the firewall of the lower aft pylon fairing (LAPF). We are issuing this AD to detect and correct this cracking, which could reduce the effectiveness of the firewall and result in an uncontrolled engine fire.

Compliance

(e) You are responsible for having the actions required by this AD performed within the compliance times specified, unless the actions have already been done.

Repetitive Inspections

(f) Prior to the accumulation of 3,000 total flight hours on the LAPF, or within 500 flight hours after the effective date of this AD, whichever is later: Perform a detailed inspection for cracking of the LAPF firewall, in accordance with the Accomplishment Instructions of Airbus Service Bulletin A330-54-3021, including Appendix 01, dated February 4, 2004. If no cracking is found, repeat the inspection thereafter at intervals not to exceed 1,000 flight hours.

Note 1: For the purposes of this AD, a detailed inspection is: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Airbus Service Bulletin A330-54-3021, dated February 4, 2004, refers to Pratt & Whitney Alert Service Bulletin PW4G-100-A54-5, dated February 13, 2003, as an additional source of service information for doing the inspection and corrective actions.

Corrective Actions and Repetitive Inspections (Cracking Found)

(g) If any crack is found during any inspection required by paragraph (f) of this AD, do paragraph (g)(1) or (g)(2) of this AD.

(1) If the crack is less than or equal to 1.2 inches long: Before further flight, stop-drill the crack and apply sealants, in accordance with the Accomplishment Instructions of Airbus Service Bulletin A330-54-3021, including Appendix 01, dated February 4, 2004, or do paragraph (h) of this AD. If the crack is stop-drilled and sealants applied, then repeat the inspection required by paragraph (f) of this AD at intervals not to exceed 500 flight hours, and do paragraph (g)(1)(i) or (g)(1)(ii) of this AD, as applicable.

(i) During the repeat inspections required by paragraph (g)(1) of this AD, if the existing crack does not extend to be longer than 1.2 inches, and no additional crack is found: Within 4,600 flight cycles after the crack is initially found, do paragraph (h) of this AD.

(ii) During any repeat inspection required by paragraph (g)(1) of this AD, if any crack that was previously less than or equal to 1.2 inches long is found to have extended to be greater than 1.2 inches long; or if an additional crack is found: Before further flight, do paragraph (h) of this AD.

(2) If any crack is found that is greater than 1.2 inches long: Before further flight, do paragraph (h) of this AD.

Note 3: This AD does not allow continued flight with a known crack that is greater than 1.2 inches long.

Repair or Replacement of Firewall

(h) If any crack is found: At the applicable time specified in paragraph (g) of this AD, repair the LAPF firewall or replace the LAPF firewall with a new firewall, as applicable, in accordance with the Accomplishment Instructions of Airbus Service Bulletin A330-54-3021, including Appendix 01, dated February 4, 2004. Then, within 3,000 flight hours after replacement of the LAPF firewall, inspect the firewall in accordance with paragraph (f) of this AD.

Note 4: There is no terminating action at this time for the inspections required by this AD.

Reporting Requirement

(i) If any crack is found during any inspection required by this AD: Submit a report of the findings to Airbus, Department AI/SE-E5, 1 Rond Point Maurice Bellonte, 31707 Blagnac Cedex, France. Submit the report at the applicable time specified in paragraph (i)(1) or (i)(2) of this AD. The report must include the inspection results, a description of any discrepancies found, the airplane serial number, and the number of landings and flight hours on the airplane. Submitting Appendix 01 of Airbus Service Bulletin A330-54-3021, dated February 4, 2004, is an acceptable means of accomplishing this requirement. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was done before the effective date of this AD: Submit the report within 30 days after the effective date of this AD.

Alternative Methods of Compliance (AMOCs)

(j) The Manager, International Branch, ANM-116, Transport Airplane Directorate, FAA, has the authority to approve AMOCs for this AD, if requested in accordance with the procedures found in 14 CFR 39.19.

Related Information

(k) French airworthiness directive F-2004-028 R1, dated September 15, 2004, also addresses the subject of this AD.

Issued in Renton, Washington, on December 27, 2004.
Kevin M. Mullin,
Acting Manager, Transport Airplane Directorate, Aircraft Certification Service.

[FR Doc. 05-50 Filed 1-3-05; 8:45 am]

BILLING CODE 4910-13-P